DEPARTMENT OF JUSTICE

Notice of Extension of Time To Submit Comments on Consent Decree Lodged Pursuant to Sections 104 and 107 of CERCLA

On December 1, 1999, the United States lodged a proposed Consent Decree with the United States District Court for the Southern District of Texas, No. G-99-731, in United States of America v. GAF Corp., et al., pursuant to Sections 104 and 107 of CERCLA, 42 U.S.C. 9604 and 9607. The proposed Consent Decree resolves civil claims of the United States against thirty-five de minimis generator Defendants for the Tex Tin Superfund Site located in Texas City and La Marque, Texas. The Defendants will pay a total of approximately $1.5 million in reimbursement of response costs at the Site.

On December 16, 1999 a Notice was published which advised that the Department of Justice would receive comments relating to the proposed Consent Decree for 30 days following publication of the Notice. Notice is hereby given that the period during which the Department of Justice will receive comments relating to the proposed Consent Decree has been extended at the request of a member of the public. The Department of Justice will continue to accept comments through the 30th day following publication of this Notice. Comments should be addressed to the Assistant Attorney General, Environment and Natural Resources Division, United States Department of Justice, P.O. Box 7611, Ben Franklin Station, Washington, DC 20044-7611, and should refer to United States of America v. GAF Corp., et al., DJ No. 90-11-3-1669/1. The proposed Consent Decree may be examined at the Office of the United States Attorney for the Southern District of Texas, Houston, Texas, and the Region VI Office of the United States Environmental Protection Agency, 1445 Ross Avenue, Dallas, Texas 75202. A copy of the proposed Consent Decree may be obtained by mail from the Department of Justice Consent Decree Library, P.O. Box 7611, Washington, DC 20044. In requesting a copy, please enclose a check for reproduction costs (at 25 cents per page) in the amount of $14.75 for the Decree, payable to the Consent Decree Library.

Joel M. Gross,
Chief, Environmental Enforcement Section, Environment and Natural Resources Division.

[FR Doc. 00-2702 Filed 2-4-00; 8:45 am]

BILLING CODE 4410-15-M